NATIONAL SCIENCE FOUNDATION

Proposal Review Panel for Materials Research; Notice of Meeting

In accordance with the Federal Advisory Committee Act (Pub. L. 92-463 as amended), the National Science Foundation announces the following meeting:

Name: Site Visit review of the Materials Research Science and Engineering Center (MRSEC) at the University of Oklahoma and University of Arkansas, also Called Center for Semiconductor Physics in Nanostructures (C-SPIN), by NSF Division of Materials Research (DMR) #1203.

Dates & Times: April 6, 2009; 7:30 a.m.-9 p.m., April 7, 2009; 8 a.m.-3:30 p.m.

Place: University of Arkansas, Fayetteville, Arkansas.

Type of Meeting: Part-open.

Contact Person: Dr. Z. Charles Ying, Program Director, Materials Research Science and Engineering Centers Program, Division of Materials Research, Room 1065, National Science Foundation, 4201 Wilson Boulevard, Arlington, VA 22230, Telephone (703) 292-8428.

Purpose of Meeting: To provide advice and recommendations concerning further support of the MRSEC at the University of Oklahoma and University of Arkansas.

Agenda

Monday, April 6, 2009

7:30 a.m.-9 a.m. Closed—Executive Session.

9 a.m.-4:30 p.m. Open—Review of the OU/UA. MRSEC

4:30 p.m.-6 p.m. Closed—Executive Session.

6 p.m.-9 p.m. Open—Poster Session and Dinner.

Tuesday, April 7, 2009

8 a.m.-9 a.m. Closed—Executive Session.

9 a.m.-10:15 a.m. Open—Review of the OU/UA MRSEC.

10:15 a.m.-3:30 p.m. Closed—Executive Session, Draft and Review Report.

Reason for Closing: The work being reviewed may include information of a proprietary or confidential nature, including technical information; financial data, such as salaries and personal information concerning individuals associated with the proposals. These matters are exempt under 5 U.S.C. 552b(c), (4) and (6) of the Government in the Sunshine Act.

Dated: March 10, 2009.
Susanne Bolton,
Committee Management Officer.

[FR Doc. E9-5439 Filed 3-12-09; 8:45 am]

BILLING CODE 7555-01-P